POSTAL REGULATORY COMMISSION

[Docket No. MC2010-23; Order No. 450]

New Postal Products

AGENCY: Postal Regulatory Commission.

ACTION: Notice.

SUMMARY: The Commission is noticing a recently-filed Postal Service request to add postal products to the Mail Classification Schedule. This notice addresses procedural steps associated with this filing.

DATES: Comments are due: May 19, 2010.

ADDRESSES: Submit comments electronically via the Commission's Filing Online system at http://www.prc.gov. Commenters who cannot submit their views electronically should contact the person identified in the FOR FURTHER INFORMATION CONTACT section by telephone for advice on alternatives to electronic filing.

FOR FURTHER INFORMATION CONTACT: Stephen L. Sharfman, General Counsel, 202-789-6820 and stephen.sharfman@prc.gov.

SUPPLEMENTARY INFORMATION: On April 26, 2010, the Postal Service filed a notice of an amendment to the Mail Classification Schedule (MCS) language for the stamped envelope price category in the Ancillary Services product in Special Services.¹ In its filing, the Postal Service points out that the current MCS language for the stamped envelope price category includes pricing for personalized stamped envelopes, but omits applicable shipping charges. Id. at 1.

¹ Notice of the United States Postal Service of Classification Change to Add Existing Shipping Charges to the Mail Classification Schedule for Stamped Envelopes, April 26, 2010 (Notice).

The Postal Service states that while orders for personalized stamped envelopes are placed with its Stamp Fulfillment Services office, orders are actually fulfilled by a private printer located in another state. Currently effective shipping charges for orders fulfilled by that printer are set forth in the Ordering Instructions for Personalized Stamped Envelopes (PS Form 3202-X, October 2009). Id., Attachment A.

The Postal Service states further its belief that the appropriate place to include shipping charges for stamped envelopes is in the Stamped Envelope section of the MCS, rather than in the new Stamp Fulfillment Services product that it has requested be added to the MCS.² Attachment B to the Notice shows the proposed changes to the Stamped Envelope MCS language in section 1505.19 of the MCS. These charges are a continuation of the existing charges already being paid by customers.

² See Docket No. MC2009-19, Request of the United States Postal Service to Add Stamp Fulfillment Services to the Mail Classification Schedule in Response to Order No. 391, April 26, 2010 (Request). The Request was filed at the direction of the Commission. See Order Approving Addition of Postal Services to the Mail Classification Schedule Product Lists, January 13, 2010 at 31, Ordering Paragraph 5.

The Commission hereby provides public notice of the Postal Service's filing and affords interested persons the opportunity to express views and offer comments on the proposed MCS classification change. Comments are due May 19, 2010.

The Commission appoints Emmett Rand Costich to serve as Public Representative in this docket.

It is ordered:

1. The Commission establishes Docket No. MC2010-23 for consideration of the matters raised in this docket.

2. Pursuant to 39 U.S.C. 505, Emmett Rand Costich is appointed to serve as officer of the Commission (Public Representative) to represent the interests of the general public in these proceedings.

3. Comments by interested persons in this proceeding are due no later than May 19, 2010.

4. The Secretary shall arrange for publication of this order in the Federal Register.

By the Commission.
Shoshana M. Grove,
Secretary.

[FR Doc. 2010-10399 Filed 5-3-10; 8:45 am]

BILLING CODE S